DEPARTMENT OF AGRICULTURE

Agricultural Marketing Service

[Doc. No. FV-04-302]

United States Standards for Grades of Sweet Potatoes

AGENCY: Agricultural Marketing Service, USDA.

ACTION: Notice.

SUMMARY: The Agricultural Marketing Service (AMS) of the Department of Agriculture (USDA) is revising the United States Standards for Grades of Sweet Potatoes. USDA had received a request from several industry groups to add a new grade to the standards, U.S. No. 1 Petite. The change will allow the packing and shipping of smaller size sweet potatoes under the U.S. standards, thereby, improving the usefulness of the standards in serving the industry.

DATES: Effective Date: April 21, 2005.

FOR FURTHER INFORMATION CONTACT: David Priester, Standardization Section, Fresh Products Branch, Fruit and Vegetable Programs, Agricultural Marketing Service, U.S. Department of Agriculture, 1400 Independence Avenue, SW., Room 1661 South Building, STOP 0240, Washington, DC 20250-0240, Fax (202) 720-8871 or call (202) 720-2185; E-mail David.Priester@usda.gov. The final United States Standards for Grades of Sweet Potatoes, will be available either through the address cited above or by accessing the AMS Home Page on the web at http://www.ams.usda.gov/standards/vegfm.htm.

SUPPLEMENTARY INFORMATION: Section 203(c) of the Agricultural Marketing Act of 1946 (7 U.S.C. 1621-1627), as amended, directs and authorizes the Secretary of Agriculture “to develop and improve standards of quality, condition, quantity, grade and packaging and recommend and demonstrate such standards in order to encourage uniformity and consistency in commercial practices * * *.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA/AMS/Fruit and Vegetable Programs.

AMS is revising the voluntary U.S. Standards for Grades of Sweet Potatoes using procedures that appear in Part 36 Title 7 of the Code of Federal Regulations (7 CFR Part 36).

Background

On December 10, 2003, AMS published a notice in the Federal Register (68 FR 237) soliciting comments on a possible revision to the United States Standards for Grades of Sweet Potatoes. As a result, AMS received five comments from industry groups requesting the addition of a new grade entitled U.S. No. 1 Petite, with the same requirements as the U.S. No. 1 grade currently in the standard, except for the size requirements. The request specified that the size requirements for the U.S. No. 1 Petite be: A minimum diameter of 1½ inches, a maximum diameter of 2¼ inches, a minimum length of 3 inches and a maximum length of 7 inches.

A second notice was published in the October 29, 2004, Federal Register (69 FR 209) based on comments received on the first notice. AMS received seven comments from industry groups in response to the second notice. Six comments were in favor of the revision to the standard and one comment was opposed. The comments are available by accessing AMS's Home Page on the Internet at http://www.ams.usda.gov/fv/fpbdocketlist.htm.

One comment opposing the revision stated the new grade is of negative value to their members and will cause confusion. The commenter stated the new grade may result in a lower overall return to their growers as the size is similar to a medium size which is the cheapest grade they market. The marketing of sweet potatoes using any size within the U.S. standard is voluntary. AMS believes the addition of the new grade will not cause confusion and will aid those producers whom would like to market smaller size sweet potatoes using the U.S. standards.

AMS received six comments in favor of the revision. Those in favor of the new grade stated it would aid in the marketing of smaller size sweet potatoes as the U.S. standards currently require sweet potatoes to be a larger size in order to meet a grade. The change will allow the packing and shipping of smaller size sweet potatoes under the U.S. standards.

Based on comments received and information gathered, AMS believes the addition of the U.S. No. 1 Petite grade will facilitate the marketing of smaller size sweet potatoes and improve the standards usefulness in serving the industry.

The official grade of a lot of sweet potatoes covered by these standards are determined by the procedures set forth in the Regulations Governing Inspection, Certification, and Standards of Fresh Fruits, Vegetables and Other Products (Sec. 51.1 to 51.61).

Additionally, AMS is eliminating the unclassified category. This section is being removed in all standards, when they are revised. This category is not a grade and only serves to show that no grade has been applied to the lot. It is no longer considered necessary.

The United States Standards for Grades of Sweet Potatoes will become effective 30 days after the publication of this notice in the Federal Register.

Authority: 7 U.S.C. 1621-1627.

Dated: March 16, 2005.
Kenneth C. Clayton,
Acting Administrator, Agricultural Marketing Service.

[FR Doc. 05-5608 Filed 3-21-05; 8:45 am]

BILLING CODE 3410-02-P